DEPARTMENT OF DEFENSE

Department of the Army

[Docket ID: USA-2016-HQ-0001]

Proposed Collection; Comment Request

AGENCY: U.S. Army Medical Command, Family Advocacy Program Office, DoD.

ACTION: Notice.

SUMMARY: In compliance with the Paperwork Reduction Act of 1995, the Army Family Advocacy Program Office, US Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 21, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the U.S. Army Medical Command, Health Policy & Services, Behavioral Health Service Line, Family Advocacy Program (ATTN: MCHO-CL-H/Ms. Kathleen Foreman), 2748 Worth Road, JBSA Fort Sam Houston, TX 78234; or call the Point of Contact for U.S. Army Medical Command, Family Advocacy Program Office at 210-295-7370 or email at kathleen.p.foreman.civ@mail.mil.

SUPPLEMENTARY INFORMATION: Title; Associated Form; and OMB Number: Family Advocacy Program; MEDCOM Form 811-Pilot (Behavioral Health Intake-Psychosocial History and Assessment); OMB Control Number 0702-XXXX.

Needs and Uses: The information collection requirement is necessary to obtain and record the behavioral/mental health, psychological and social history of military health eligible and non-eligible beneficiaries in need of domestic violence and child abuse emergency and non-emergency support. The form is used by family advocacy workers to assess the clinical and non-clinical needs of individuals and families to ensure victim safety; reduce the risk of adverse behavioral health events like suicide, homicide, accidental death, and physical, emotional, and sexual abuse and neglect; refer victims and alleged offenders to appropriate treatment and case management resources; to gather case information for presentation and incident determination by a family advocacy review board; and to gather information for data analysis and reporting purposes for overall program improvement.

Affected Public: Individuals or households.

Annual Burden Hours: 3,950.

Number of Respondents: 7,900.

Responses per Respondent: 1.

Annual Responses: 7,900.

Average Burden per Response: 30 minutes.

Frequency: On occasion.

Respondents are U.S. citizens (military, civilian, and military-affiliated civilians; spouses, intimate partners; child care providers; teachers) or foreign nationals seeking emergency and non-emergency support from military health care facilities, child care facilities, and DoD school systems who are seeking domestic violence or child abuse support for themselves or their children. MEDCOM Form 811-Pilot records the information needed to conduct a thorough and responsible risk assessment, behavioral health assessment, treatment plan, and case monitoring or management plan. The completed form is included in the Family Advocacy Case file and in Family Advocacy System of Records (information system). The form is used by family advocacy workers to assess the clinical and non-clinical needs of individuals and families to ensure victim safety; reduce the risk of adverse behavioral health events like suicide, homicide, accidental death, and physical, emotional sexual abuse and neglect; refer victims and alleged offenders to appropriate treatment and case management resources; to gather case information for presentation and incident determination by a family advocacy review board; and to gather information for data analysis and reporting purposes for overall program improvement. If the form is not included in the Family Advocacy file, the records will reflect inconsistent risk assessment, behavioral health assessment, treatment and management planning. This form is essential to data collection to inform treatment and management planning. The form bolsters efforts to maintain and document family advocacy worker's compliance with standards in the assessment of victims and alleged offenders of abuse. In addition, the information gathered supports program improvement and risk mitigation.

Dated: January 14, 2016.
Aaron Siegel,
Alternate OSD Federal Register Liaison Officer, Department of Defense.

[FR Doc. 2016-01075 Filed 1-20-16; 8:45 am]

BILLING CODE 5001-06-P